DEPARTMENT OF COMMERCE

National Oceanic and Atmospheric Administration

50 CFR Part 648

[Docket No. 111220786-1781-01]

RIN 0648-XC391

Fisheries of the Northeastern United States; Summer Flounder Fishery; Commercial Quota Available for the State of New York To Reopen Fishery

AGENCY: National Marine Fisheries Service (NMFS), National Oceanic and Atmospheric Administration (NOAA), Commerce.

ACTION: Temporary rule.

SUMMARY: NMFS announces that the 2012 summer flounder commercial fishery in the State of New York will be reopened to provide the opportunity for the fishery to fully harvest the available quota. Vessels issued a commercial Federal fisheries permit for the summer flounder fishery may land summer flounder in New York until the quota is fully harvested. Regulations governing the summer flounder fishery require publication of this notification to advise New York that quota remains available and the summer flounder fishery is open to vessel permit holders for landing summer flounder in New York and to inform dealer permit holders in New York that they may purchase summer flounder.

DATES: Effective at 0001 hr local time, December 12, 2012, through 2400 hr local time December 31, 2012.

FOR FURTHER INFORMATION CONTACT: Carly Bari, (978) 281-9224, or Carly.Bari@noaa.gov.

SUPPLEMENTARY INFORMATION: Regulations governing the summer flounder fishery are found at 50 CFR part 648. The regulations require annual specification of a commercial quota that is apportioned on a percentage basis among the coastal states from North Carolina through Maine. The process to set the annual commercial quota and the percent allocated to each state is described in § 648.102.

The initial total commercial quota for summer flounder for the 2012 fishing year is 13,136,001 lb (5,958,490 kg) (76 FR 82189, December 30, 2011). The percent allocated to vessels landing summer flounder in New York is 7.64699 percent, resulting in a commercial quota of 1,004,509 lb (455,645 kg). The 2012 allocation was reduced to 922,705 lb (418,539 kg) after deduction of research set-aside and adjustment for quota overages carried forward from 2011. However, NMFS determined on December 5, 2012, that this quota allocation was incorrect due to an error in determining the 2012 commercial summer flounder quota. The correct 2012 allocation to New York is 953,773 lb (432,624 kg).

The Administrator, Northeast Region, NMFS (Regional Administrator), monitors the state commercial quotas and has determined that, due to the error, there is commercial summer flounder quota available for harvest in New York. NMFS is required to publish notification in the Federal Register to reopen the fishery, advising and notifying commercial vessels and dealer permit holders that, effective upon a specific date, there is commercial quota available for landing summer flounder in that state.

Therefore, effective 0001 hours, December 12, 2012, vessels holding summer flounder commercial Federal fisheries permits can land summer flounder in New York until the corrected commercial state quota is fully harvested. Effective 0001 hours December 12, 2012, federally permitted dealers can also purchase summer flounder from federally permitted vessels that land in New York until the corrected commercial state quota is fully harvested.

Classification

This action is required by 50 CFR part 648 and is exempt from review under Executive Order 12866.

Authority: 16 U.S.C. 1801 et seq.

Dated: December 10, 2012.
Lindsay Fullenkamp,
Acting Deputy Director, Office of Sustainable Fisheries, National Marine Fisheries Service.

[FR Doc. 2012-30216 Filed 12-11-12; 4:15 pm]

BILLING CODE 3510-22-P